DEPARTMENT OF TRANSPORTATION

National Highway Traffic Safety Administration

[Docket No. NHTSA-2014-0102]

Reports, Forms, and Record Keeping Requirements

AGENCY: National Highway Traffic Safety Administration (NHTSA), Department of Transportation.

ACTION: Notice and Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes collection of information for which NHTSA intends to seek OMB approval.

DATES: Comments must be received on or before November 28, 2014.

ADDRESSES: You may submit comments identified by DOT Docket ID Number NHTSA-2014-0102 using any of the following methods:

• Electronic submissions: Go to http://www.regulations.gov. Follow the on-line instructions for submitting comments.

• Mail: Docket Management Facility, M-30, U.S. Department of Transportation, 1200 New Jersey Avenue SE., West Building Ground Floor, Room W12-140, Washington, DC 20590.

• Hand Delivery: West Building Ground Floor, Room W12-140, 1200 New Jersey Avenue SE., Washington, DC, between 9 a.m. and 5 p.m., Monday through Friday, except Federal holidays.

• Fax: (202) 493-2251.

Instructions: Each submission must include the Agency name and the Docket number for this Notice. Note that all comments received will be posted without change to http://www.regulations.gov including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; pages 19477-78) or you may visit http://dot.gov/privacy.html or http://Docketslnfo.dot.gov.

FOR FURTHER INFORMATION CONTACT: For background documents, contact Gary R. Toth, Office of Data Acquisitions (NVS-410), Room W53-505, 1200 New Jersey Avenue SE., Washington, DC 20590. Mr. Toth's telephone number is (202) 366-5378.

SUPPLEMENTARY INFORMATION: Under the Paperwork Reduction Act of 1995, before an agency submits a proposed collection of information to OMB for approval, it must first publish a document in the Federal Register providing a 60-day comment period and otherwise consult with members of the public and affected agencies concerning each proposed collection of information. OMB has promulgated regulations describing what must be included in such a document. Under OMB's regulation (at 5CFR 1320.8(d), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collections of information:

Title: Crash Report Sampling System (CRSS).

Type of Request: New information collection.

OMB Control Number: None.

Requested Expiration Date of Approval: Five (5) years from the approval date.

Abstract: Under both the Highway Safety Act of 1966 and the National Traffic and Motor Vehicle Safety Act of 1966, the National Highway Traffic Safety Administration (NHTSA) has the responsibility to collect crash data that support the establishment and enforcement of motor vehicle regulations and highway safety programs. These regulations and programs are developed to reduce the severity of injury and the property damage associated with motor vehicle crashes. In the late 1970s, NHTSA's National Center for Statistics and Analysis (NCSA) devised a multidisciplinary approach to meet the data needs of our end users that utilized an efficient combination of census, sample-based, and existing State files to provide information on traffic crashes on a timely basis. NCSA operates data programs consisting of records-based systems that include the Fatality Analysis Reporting System (FARS) and the National Automotive Sampling System General Estimates System (NASS-GES); and detailed crash investigation-based systems which include the National Automotive Sampling System Crashworthiness Data System (NASS-CDS) and the Special Crash Investigations (SCI) program. NASS-CDS focused on the crashworthiness of passenger cars, light trucks, and vans involved in crashes that were damaged enough to be towed. NASS-GES, on the other hand, collected limited data on all level of severities of highway crashes involving all types of motor vehicles in order to produce general estimates.

Recognizing the importance as well as the limitations of the current National Automotive Sampling System, NHTSA is undertaking a modernization effort to upgrade our data systems by improving the information technology infrastructure, updating the data we collect and reexamining the sample sites. The goal of this overall modernization effort is to develop new crash data systems that meet current and future data needs. These data acquisition systems will be designed to collect record-based information and investigation-based information. The redesigned records-based acquisition process will identify highway safety problem areas and provide general data trends. The system will be referred to as the Crash Report Sampling System (CRSS).

CRSS will obtain data from a nationally representative probability sample selected from police reported motor vehicle traffic crashes. Specifically, crashes involving at least one motor vehicle in transport on a trafficway that result in property damage, injury or a fatality will be included in the CRSS sample. The crash reports sampled will be chosen from selected areas that reflect the geography, population, miles driven, and the number of crashes in the United States. No additional data beyond the selected crash reports will be collected. Once the crash reports are received they will be coded and the data will be entered into the CRSS database.

CRSS will acquire national information on fatalities, injuries and property damage directly from existing State police crash reports. The user population includes Federal and State agencies, automobile manufacturers, insurance companies, and the private sector. Annual changes in the sample parameters are minor in terms of operation and method of data collection, and do not affect the reporting burden of the respondent. CRSS data coders will utilize existing State crash files.

Estimated Annual Burden: 34,944 hours.

Number of Respondents: 630.

Public Comments Invited: You are asked to comment on any aspect of this information collection, including (a) Whether the proposed collection of information is necessary for the agency's performance of its functions; (b) the accuracy of the estimated burden; (c) ways for the agency to enhance the quality, utility and clarity of the information to be collected; and (d) ways that the burden could be minimized without reducing the quality of the collected information. The agency will summarize your comments and the agency's responses in the request for OMB clearance of this information collection.

Authority: The Paperwork Reduction Act of 1995, 44 U.S.C. chap. 35; 49 U.S.C. 30181-83.

Issued in Washington, DC, under authority delegated in 49 CFR 1.95.
Terry T. Shelton,
Associate Administrator, National Center for Statistics and Analysis.

[FR Doc. 2014-23113 Filed 9-26-14; 8:45 am]

BILLING CODE 4910-59-P